COMMITTEE FOR PURCHASE FROM PEOPLE WHO ARE BLIND OR SEVERELY DISABLED

Procurement List; Redesignation of Services

AGENCY: Committee for Purchase From People Who Are Blind or Severely Disabled.

ACTION: Redesignation of Procurement List services.

SUMMARY: This notice redesignates services on the Procurement List which will be procured on a Facility-wide basis rather than for individual buildings as the new building opens. These services are being performed for the General Services Administration, Public Buildings Service, Washington, DC.

EFFECTIVE DATE: November 12, 2004.

ADDRESSES: Committee for Purchase From People Who Are Blind or Severely Disabled, Jefferson Plaza 2, Suite 10800, 1421 Jefferson Davis Highway, Arlington, Virginia 2202-3259.

FOR FURTHER INFORMATION CONTACT: Sheryl D. Kennerly, (703) 603-7740.

SUPPLEMENTARY INFORMATION: The following services are on the Procurement List to be performed by the designated nonprofit agency for the General Services Administration, Public Buildings Service as identified below:

Service Type/Location: Custodial, Food and Drug Administration, CDER Lab/Office Building, White Oak, Maryland.

NPA: Alliance, Inc., Baltimore, Maryland.

Contract Activity: General Services Administration, Public Building Service, Washington, DC.

The above services will be procured by the GSA/Public Buildings Service on a Facility-wide basis and are thus being redesignated collectively on the Procurement List as set forth below, and the nonprofit agency identified below has been designated as the qualified nonprofit agency authorized to provide the services.

Service Type/Location: Custodial, Facility-wide, Food and Drug Administration, White Oak, Maryland.

NPA: Alliance, Inc., Baltimore Maryland.

Contract Activity: General Services Administration, Public Building Service, Washington, DC.

Sheryl D. Kennerly,
Director, Information Management.

[FR Doc. 04-25232 Filed 11-10-04; 8:45 am]

BILLING CODE 6353-01-P